GOVERNMENT ACCOUNTABILITY OFFICE

Health Information Technology Policy Committee Nomination Letters

AGENCY: Government Accountability Office (GAO).

ACTION: Notice on letters of nomination of candidates.

SUMMARY: The American Recovery and Reinvestment Act of 2009 (ARRA) established the Health Information Technology Policy Committee (Health IT Policy Committee) and gave the Comptroller General responsibility for appointing 13 of its 20 members. As the result of terms ending in April 2015, GAO is accepting nominations of individuals for four openings on the committee in the following categories of representation or expertise required in ARRA: Advocate for patients or consumers, health care provider, representative of a health plan or third party payer, and expertise in health care quality measurement and reporting. For appointments to the HIT Policy committee to be made in April 2015 in these categories, I am announcing the following: Letters of nomination and resumes should be submitted by February 27, 2015 to ensure adequate opportunity for review and consideration of nominees.

ADDRESSES: Email: HITCommittee@gao.gov.

Mail: ATTN: HITPC Appointments, U.S. GAO, 441 G Street NW., Washington, DC 20548.

FOR FURTHER INFORMATION CONTACT: GAO Office of Public Affairs, (202) 512-4800. 42 U.S.C. 300jj-12.

Gene L. Dodaro,
Comptroller General of the United States.

[FR Doc. 2015-01837 Filed 2-2-15; 8:45 am]

BILLING CODE 1610-02-M